DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of July 6, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Barnstable County, Massachusetts (All Jurisdictions)
Docket No.: FEMA-B-1842
Town of Bourne | Bourne Town Hall, 24 Perry Avenue, Buzzards Bay, MA 02532.
Bristol County, Massachusetts (All Jurisdictions)
Docket No.: FEMA-B-1842
City of Fall River | City Hall, 1 Government Center, Fall River, MA 02722.
City of New Bedford | City Hall, 133 William Street, New Bedford, MA 02740.
Town of Acushnet | Parting Ways Building, 130 Main Street, 2nd Floor, Acushnet, MA 02743.
Town of Dartmouth | Town Hall, 400 Slocum Road, Dartmouth, MA 02747.
Town of Fairhaven | Town Hall, 40 Center Street, Fairhaven, MA 02719.
Town of Freetown | Freetown Town Hall, 3 North Main Street, Assonet, MA 02702.
Town of Westport | Town Hall, 816 Main Road, Westport, MA 02790.
Norfolk County, Massachusetts (All Jurisdictions)
Docket No.: FEMA-B-1842
Town of Cohasset | Town Hall, 41 Highland Avenue, Cohasset, MA 02025.
Plymouth County, Massachusetts (All Jurisdictions)
Docket No.: FEMA-B-1842
Town of Abington | Town Hall, 500 Gliniewicz Way, Abington, MA 02351.
Town of Carver | Town Hall, 108 Main Street, Carver, MA 02330.
Town of Duxbury | Town Hall, 878 Tremont Street, Duxbury, MA 02332.
Town of Halifax | Town Hall, 499 Plymouth Street, Halifax, MA 02338.
Town of Hanover | Town Hall, 550 Hanover Street, Hanover, MA 02339.
Town of Hanson | Town Hall, 542 Liberty Street, Hanson, MA 02341.
Town of Hingham | Town Hall, 210 Central Street, Hingham, MA 02043.
Town of Kingston | Town House, 26 Evergreen Street, Kingston, MA 02364.
Town of Marion | Town House, 2 Spring Street, Marion, MA 02738.
Town of Marshfield | Town Hall, 870 Moraine Street, Marshfield, MA 02050.
Town of Mattapoisett | Town Hall, 16 Main Street, Mattapoisett, MA 02739.
Town of Middleborough | Town Hall, 10 Nickerson Avenue, Middleborough, MA 02346.
Town of Norwell | Town Hall, 345 Main Street, Room 112, Norwell, MA 02061.
Town of Pembroke | Town Hall, 100 Center Street, Pembroke, MA 02359.
Town of Plymouth | Town Hall, 26 Court Street, Plymouth, MA 02360.
Town of Plympton | Town Hall, 5 Palmer Road, Plympton, MA 02367.
Town of Rochester | Town Hall, 1 Constitution Way, Rochester, MA 02770.
Town of Rockland | Town Hall, 242 Union Street, Rockland, MA 02370.
Town of Scituate | Town Hall, 600 Chief Justice Cushing Highway, Scituate, MA 02066.
Town of Wareham | Memorial Town Hall, 54 Marion Road, Wareham, MA 02571.
Newport County, Rhode Island (All Jurisdictions)
Docket No.: FEMA-B-1842
Town of Little Compton | Town Hall, 40 Commons, Little Compton, RI 02837.
Town of Tiverton | Town Hall, 343 Highland Road, Tiverton, RI 02878.

[FR Doc. 2021-04152 Filed 2-26-21; 8:45 am]

BILLING CODE 9110-12-P